DEPARTMENT OF COMMERCE

Economic Development Administration

Agency Information Collection Activities; Submission to the Office of Management and Budget (OMB) for Review and Approval; Comment Request; Application Materials for EDA Investment Assistance

AGENCY: Economic Development Administration, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 26, 2021.

ADDRESSES: Interested persons are invited to submit written comments to Bernadette Grafton, Program Analyst, Performance, Research and National Technical Assistance Division, Economic Development Administration, U.S. Department of Commerce, via email at bgrafton1@eda.gov. You may also submit comments to PRAcomments@doc.gov. Please reference OMB Control Number 0610-0094 in the subject line of your comments. Do not submit Confidential Business Information or otherwise sensitive or protected information.

FOR FURTHER INFORMATION CONTACT: Requests for additional information or specific questions related to collection activities should be directed to Bernadette Grafton, Program Analyst, Performance, Research and National Technical Assistance Division, Economic Development Administration, U.S. Department of Commerce, via phone at (202) 482-2917 or via email at bgrafton1@eda.gov.

SUPPLEMENTARY INFORMATION:

I. Abstract

The Economic Development Administration (EDA) leads the Federal economic development agenda by promoting innovation and competitiveness, preparing American regions for growth and success in the worldwide economy. Guided by the basic principle that sustainable economic development should be locally-driven, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, capacity building, and business development in order to attract private capital investments and new and better jobs to regions experiencing economic distress. Further information on EDA programs and financial assistance opportunities can be found at www.eda.gov.

EDA must collect specific information from financial assistance applicants to evaluate whether proposed projects satisfy eligibility and programmatic requirements contained in PWEDA, EDA regulations at 13 CFR chapter III, and applicable Notices of Funding Opportunity (NOFOs). The purpose of this notice is to seek comments from the public and other Federal agencies regarding EDA's proposed revision and extension of the application materials under this information collection: Forms ED-900 (General Application (GA) for EDA Programs), ED-900B (Beneficiary Information Form), ED-900C (EDA Application Supplement for Construction Programs), ED-900D (Requirements for Design and Engineering Assistance), ED-900E (Calculation of Estimated Relocation and Land Acquisition Expenses), and ED-900F (Additional EDA Assurances for Revolving Loan Fund Investments).

EDA proposes to make clarifying edits to the following forms under this information collection: Forms ED-900 GA, ED-900B, ED-900C, ED-900D, ED-900E, and ED-900F. The clarifying edits do not change the type or amount of information collected, and the clarifying edits will not impact the time burden for respondents to complete the forms. The clarifying edits include: (1) Re-ordering many of the questions in Form ED-900 GA to improve clarity and to assist applicants in completing the form in a way that can be easily evaluated by EDA; (2) Adding two new questions to Form ED-900 GA to gather improved project location information necessary for EDA to comply with new data and reporting requirements; (3) Removing duplicative questions across the forms under this information collection; (4) Modifying Form ED-900F to only collect assurances, removing questions regarding the proposed operation of a revolving loan fund (RLF), thus greatly simplifying the form for applicants; and (5) moving form instructions from the end of each form to accompany various questions throughout each form to improve the applicant experience.

EDA does not propose to extend two existing forms under this information collection: Forms ED-900A (Additional EDA Assurances for Construction Or Non-Construction Investments and ED-900P (Proposal for EDA Assistance). Form ED-900A is no longer necessary because the assurances collected in Form ED-900A are redundant with other materials, including other forms under this information collection and certifications collected by SAM.gov. Form ED-900P is no longer necessary because EDA has removed the requirement for a financial assistance applicant to submit a proposal prior to submitting a full application. By eliminating Forms ED-900A and ED-900P, EDA will reduce the estimated time per response to this information collection.

EDA estimates that an increase in the number of respondents to this information collection will outweigh the reduced time per response for this information collection and result in an increase in estimated burden hours for this information collection. The recently enacted American Rescue Plan Act of 2021 (Pub. L. 117-2) appropriated $3,000,000,000 in supplemental funds to EDA to “prevent, prepare for, and respond to coronavirus and for necessary expenses for responding to economic injury as a result of coronavirus.” In comparison, EDA was appropriated $346,000,000 under the Consolidated Appropriations Act, 2021. This supplemental funding will substantially increase the number of respondents applying for EDA financial assistance and therefore required to complete the information collection. Although the proposed revision and extension of the information collection will reduce the estimated amount of time required to complete the information collection, the substantially increased number of respondents to this information collection will result in an increase in burden hours for this information collection.

II. Method of Collection

EDA collects information from financial assistance applicants electronically through Grants.gov, or, in very rare instances, via email or paper submission.

III. Data

OMB Control Number: 0610-0094.

Form Number(s): ED-900, ED-900B, ED-900C, ED-900D, ED-900E, ED-900F.

Type of Review: Revision and extension of a currently approved information collection.

Affected Public: Entities eligible for EDA financial assistance, including not-for-profit entities; Federal, State, local, and Tribal governments; and businesses or other for-profit organizations.

Estimated Number of Respondents: For construction projects, 977 estimated respondents, and for non-construction projects, 1,663 estimated respondents, for a total of 2,640 estimated respondents.

Estimated Time per Response: For construction projects, 43.0 estimated hours per response, and for non-construction projects, 17.1 estimated hours per response.

Estimated Total Annual Burden Hours: For construction projects, 42,011 estimated annual burden hours, and for non-construction projects, 28,437 estimated annual burden hours, for a total of 70,448 estimated total annual burden hours.

Application type | Estimated number of responses | Average time estimate | Total hours
Full Application Submission for Construction Applicants | 977 | 43.0 | 42,011
Full Application Submission All Other EDA Programs | 1,663 | 17.1 | 28,437
Total | 2,640 |  | 70,448

Estimated Total Annual Cost to Public: $4,065,554 (cost assumes application of U.S. Bureau of Labor Statistics fourth quarter 2020 mean hourly employer costs for employee compensation for professional and related occupations of $57.71).

Respondent's Obligation: Mandatory.

Legal Authority: The Public Works and Economic Development Act of 1965 (42 U.S.C. 3121 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-11250 Filed 5-26-21; 8:45 am]

BILLING CODE 3510-34-P